ENVIRONMENTAL PROTECTION AGENCY

[ER-FRL-9014-4]

Environmental Impact Statements; Notice of Availability

Responsible Agency: Office of Federal Activities, General Information (202) 564-7146 or http://www.epa.gov/compliance/nepa/.

Weekly receipt of Environmental Impact Statements.

Filed 03/31/2014 through 04/04/2014.

Pursuant to 40 CFR 1506.9.

Notice

Section 309(a) of the Clean Air Act requires that EPA make public its comments on EISs issued by other Federal agencies. EPA's comment letters on EISs are available at: http://www.epa.gov/compliance/nepa/eisdata.html.

EIS No. 20140106, Draft EIS, USFS, WA, Bailey, Aeneas, Revis and Tunk C & H Livestock Grazing Analysis, Comment Period Ends: 05/27/2014, Contact: Phillip Christy 509-486-5137.

EIS No. 20140107, Draft EIS, USACE, KS, Removal and Disposal of Sediment and Restoration of Water Storage at John Redmond Reservoir, Comment Period Ends: 05/27/2014, Contact: David Gade 918-669-7579.

EIS No. 20140108, Draft EIS, FTA, MN, Bottineau Transitway Corridor Light Rail Project, Comment Period Ends: 05/29/2014, Contact: Maya Sarna 202-366-5811.

EIS No. 20140109, Final EIS, FHWA, WV, Tier 1—US 220, National Highway System (NHS between I-68 and Corridor H (US 220), Review Period Ends: 05/19/2014, Contact: Jason Workman 304-347-5928.

EIS No. 20140110, Draft EIS, USFS, CA, Smith River National Recreation Area Restoration and Motorized Travel Management, Comment Period Ends: 06/10/2014, Contact: Christy Prescott 707-441-3661.

EIS No. 20140111, Draft EIS, BLM, WAPA, 00, Southline Transmission Line Project and Draft Resource Management Plan Amendment, Comment Period Ends: 07/10/2014, Contact: Mark Mackiewicz (BLM) 435-636-3616 and Mark Wieringa (WAPA) 720-962-7448.

The U.S. Department of the Interior's Bureau of Land Management and the U.S. Department of Energy's Western Area Power Administration are joint lead agencies for the above project.

EIS No. 20140112, Final EIS, NOAA, HI, Programmatic—Hawaiian Monk Seal Recovery Actions, Review Period Ends: 05/12/2014, Contact: Amy Sloan 301-427-8401.

Amended Notices

EIS No. 20140096, Draft EIS, FHWA, IL, 75th Street Corridor Improvement Project, Comment Period Ends: 05/22/2014, Contact: Catherine A. Batey 217-492-4600. Revision to the FR Notice Published 03/20/2014; Change Comment Period from 05/12/2014 to 05/22/2014.

Dated: April 8, 2014.
Cliff Rader,
Director, NEPA Compliance Division, Office of Federal Activities.

[FR Doc. 2014-08194 Filed 4-10-14; 8:45 am]

BILLING CODE 6560-50-P